DEPARTMENT OF COMMERCE

National Oceanic and Atmospheric Administration

[I.D.121604B]

Marine Fisheries Advisory Committee; Public Meetings

AGENCY: National Marine Fisheries Service (NMFS), National Oceanic and Atmospheric Administration (NOAA), Commerce.

ACTION: Notice of public meetings.

SUMMARY: Notice is hereby given of meetings of the Marine Fisheries Advisory Committee (MAFAC). This will be the first of two annual meetings to be held in fiscal year (FY) 2005 to review and advise on management policies for living marine resources. Agenda topics can found in the SUPPLEMENTARY INFORMATION section of this notice.

DATES: The meetings will be held in January 2005. See SUPPLEMENTARY INFORMATION for specific dates and times.

ADDRESSES: The meetings will be held at the Hilton Hawaiian Village Beach Resort & Spa, 2005 Kalia Road, Honolulu, HI 96815.

Requests for special accommodations may be directed to MAFAC, Constituent Services, National Marine Fisheries Service, 1315 East-West Highway #9508, Silver Spring, MD 20910.

FOR FURTHER INFORMATION CONTACT: Laurel Bryant, MAFAC Executive Director; telephone: (301) 713-2379 x171.

SUPPLEMENTARY INFORMATION: As required by section 10(a)(2) of the Federal Advisory Committee Act, 5 U.S.C. App. (1982), notice is hereby given of meetings of MAFAC. MAFAC was established by the Secretary of Commerce (Secretary) on February 17, 1972, to advise the Secretary on all living marine resource matters that are the responsibility of the Department of Commerce. This Committee advises and reviews the adequacy of living marine resource policies and programs to meet the needs of commercial and recreational fisheries, and environmental, state, consumer, academic, tribal, and other national interests.

Meeting Dates and Times

1. January 11, 2005, 9:15 a.m.-5 p.m.

2. January 12, 2005, 8:30 a.m.-5 p.m.

3. January 13, 2005, 8:30 a.m.-11:30 a.m.

4. January 14, 2005, 1 p.m.-3 p.m.

Matters to be Considered

January 11, 2005

General overview and full committee discussion regarding NOAA's ecosystem management initiatives and how they relate to fisheries management, and review and status of the Magnuson-Stevens Fishery Conservation and Management Act reauthorization.

January 12, 2005

Overview and full committee discussion of cold water coral management initiatives, FY 2005 budget review, recreational fisheries strategic plan and program initiative, and review of newly revised Office of Constituent Services and programs.

January 13, 2005

The MAFAC will meet for a morning overview and discussion of aquaculture legislative initiatives and status of regional research programs.

January 14, 2005

The full committee of MAFAC will meet in the afternoon to receive reports and take final action. Committee will adjourn sine day on completion of business.

Time will be set aside for public comment on agenda items.

Special Accommodations

These meetings are physically accessible to people with disabilities. Requests for sign language interpretation or other auxiliary aids should be directed to MAFAC (see ADDRESSES).

Dated: December 17, 2004.
William T. Hogarth,
Assistant Administrator for Fisheries, National Marine Fisheries Service.

[FR Doc. 04-28131 Filed 12-23-04; 8:45 am]

BILLING CODE 3510-22-S